SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: January 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, subpart E for the time period specified above:

Grandfathering Registration Under 18 CFR part 806, subpart E:

1. Village of Alfred—Public Water Supply System, GF Certificate No. GF-202201202, Village of Alfred, Allegany County, N.Y.; Wells 1 and 2; Issue Date: January 28, 2022.

2. Barletta Materials & Construction, Inc.—Honey Hole Quarry, GF Certificate No. GF-202201203, Nescopeck Township, Luzerne County, Pa.; Susquehanna River and consumptive use; Issue Date: January 28, 2022.

3. The Municipal Authority of the Borough of Catawissa—Public Water Supply System, GF Certificate No. GF-202201204, Catawissa Township and Catawissa Borough, Columbia County, Pa.; Well 6; Issue Date: January 28, 2022.

4. Mifflintown Municipal Authority—Public Water Supply System, GF Certificate No. GF-202201205, Fermanagh Township, Juniata County, Pa.; Macedonia Wells 1 and 2; Issue Date: January 28, 2022.

5. Pennsy Supply, Inc.—Small Mountain Quarry, GF Certificate No. GF-202201206, Dorrance Township, Luzerne County, Pa.; Wells 1, 2, and 3; Issue Date: January 28, 2022.

Authority: Public Law 91-575, 84 stat. 1509 et seq., 18 CFR parts 806, 807, and 808.

Dated: February 7, 2022.
Jason E. Oyler,
General Counsel and Secretary to the Commission.

[FR Doc. 2022-02867 Filed 2-9-22; 8:45 am]

BILLING CODE 7040-01-P